NUCLEAR REGULATORY COMMISSION

[Docket No. 50-344]

Portland General Electric Company (Trojan Nuclear Plant); Exemption

I.

Portland General Electric Company (licensee) is the holder of Facility Operating License No. NPF-1, which authorizes the licensee to possess the Trojan Nuclear Plant (TNP). The license states, in part, that the facility is subject to all the rules, regulations, and orders of the U.S. Nuclear Regulatory Commission (the Commission or NRC) now or hereafter in effect. The facility consists of a pressurized water reactor located at the licensee's site in Columbia County, Oregon. The facility is permanently shut down and defueled and the licensee is no longer authorized to operate or place fuel in the reactor.

II.

Section 50.54(p) of Title 10 of the Code of Federal Regulations states that “The licensee shall prepare and maintain safeguards contingency plan procedures in accordance with appendix C of part 73 of this chapter for effecting the actions and decisions contained in the Responsibility Matrix of the safeguards contingency plan.”

Part 73 of Title 10 of the Code of Federal Regulations, “PHYSICAL PROTECTION OF PLANT AND MATERIALS,” states that “This part prescribes requirements for the establishment and maintenance of a physical protection system which will have capabilities for the protection of special nuclear material at fixed sites and in transit and of plants in which special nuclear material is used.” Section 73.55 of Title 10 of the Code of Federal Regulations, “Requirements for physical protection of licensed activities in nuclear power reactors against radiological sabotage,” states that “The licensee shall establish and maintain an onsite physical protection system and security organization which will have as its objective to provide high assurance that activities involving special nuclear material are not inimical to the common defense and security and do not constitute an unreasonable risk to the public health and safety.”

By letter dated January 27, 1993, the licensee informed the NRC that they no longer intend to operate the Trojan facility and intend to remove all spent nuclear fuel from the 10 CFR part 50 licensed site. By letter dated January 29, 1998, the licensee requested an exemption from the security requirements of 10 CFR 50.54(p) and 10 CFR part 73. 10 CFR 50.54(p) and 10 CFR 73.55 provide security requirements to protect the spent fuel while within the boundary of a licensed power reactor site. The requested exemption from the security requirements for the Trojan Nuclear Plant would be effective after the spent fuel has been removed from the reactor site by the licensee and relocated to the new independent spent fuel storage installation (ISFSI), which is not physically associated with the reactor site. The new ISFSI has been licensed under 10 CFR Part 72 for storage facilities not associated with a reactor site and possesses an approved physical plan as required by 10 CFR 72.180 and 10 CFR 73.51.

Subpart H of 10 CFR Part 72 establishes requirements for physical protection for the independent storage of spent nuclear fuel and high-level radioactive waste and refers to 10 CFR 73.51 to define the requirements for physical protection of spent nuclear fuel stored under a specific license issued pursuant to 10 CFR part 72. The Trojan ISFSI has an NRC-approved security plan to protect the spent nuclear fuel stored there from radiological sabotage and diversion as required by 10 CFR part 72, subpart H.

Pursuant 10 CFR 50.12, “Specific exemptions,” the Commission may, upon application by any interested person or upon its own initiative, grant exemptions from the requirements of the regulations of these parts, which are authorized by law, will not present an undue risk to the public health and safety, and are consistent with the common defense and security. Additionally, 10 CFR 50.12 states that the Commission will not consider granting an exemption to 10 CFR part 50 unless special circumstances are present. Special circumstances are present when application of the regulation in the particular circumstances would not serve the underlying purpose of the rule and when compliance would result in costs significantly in excess of those incurred by others similarly situated. Also, pursuant to 10 CFR 73.5, “Specific exemptions,” the Commission may grant exemptions from the regulations in this part as it determines are authorized by law and will not endanger life or property, and are otherwise in the public interest.

III.

The Commission has determined that the existing 10 CFR part 73 requirements need to be maintained at the Trojan Nuclear Plant until the spent fuel located in the spent fuel pool is physically relocated from the defueled site to the new security area at the ISFSI. With the completion of the spent fuel movement into the ISFSI, there will no longer be any special nuclear material located within the 10 CFR part 50 licensed site. At that time, the potential for radiological sabotage or diversion of special nuclear material at the 10 CFR part 50 licensed site would be eliminated. The security requirements of 10 CFR part 73, as applicable to a 10 CFR part 50 license site, presume that the purpose of the facility is to possess and utilize special nuclear material. Therefore, the continued application of the 10 CFR part 73 requirements to the Trojan facility would no longer be necessary to achieve the underlying purpose of the rule. Additionally, with the transfer of the special nuclear material to the ISFSI, the 10 CFR part 50 licensed site would be comparable to a source and byproduct licensee in terms of the level of security needed to protect the public health and safety. The continued application of 10 CFR part 73 security requirements would cause the licensee to expend significantly more funds for security requirements than other source and byproduct facilities. Therefore, compliance with 10 CFR part 73 would result in costs significantly in excess of those incurred by others similarly situated. Based on the above, the NRC has determined that the removal of all special nuclear material from the 10 CFR part 50 licensed site constitutes special circumstances. The security of the special nuclear material will be maintained following relocation of the spent nuclear fuel to the 10 CFR part 72 licensed ISFSI since new assurance objectives and general performance requirements will be in place to protect the spent fuel by the security requirements in 10 CFR part 72. Therefore, protection of the special nuclear material will continue following relocation of the spent nuclear fuel from the 10 CFR part 50 licensed site.

IV.

Accordingly, the Commission has determined that, pursuant to 10 CFR 50.12(a), an exemption is authorized by law, will not endanger life or property or the common defense and security, and is otherwise in the public interest based on the continued maintenance of appropriate security requirements for the special nuclear material. Additionally, special circumstances are present based on the relocation of the spent nuclear fuel from the 10 CFR part 50 site to the 10 CFR part 72 site. Therefore, the Commission hereby grants Portland General Electric Company an exemption from the requirements of 10 CFR 50.54(p) at the Trojan Nuclear Plant.

Accordingly, the Commission has determined that, pursuant to 10 CFR 73.5, an exemption is authorized by law, will not endanger life or property or the common defense and security, and is otherwise in the public interest based on the maintenance of appropriate security requirements for the special nuclear material under the 10 CFR part 72 license. Therefore, the Commission hereby grants Portland General Electric Company an exemption from the requirements of 10 CFR part 73 at the Trojan Nuclear Plant.

Pursuant to 10 CFR 51.32, the Commission has determined that this exemption will not have a significant on the quality of the human environment (64 FR 46422).

This exemption is effective upon completion of the transfer of the spent nuclear fuel at the Trojan Nuclear Plant to the Trojan independent spent fuel storage installation.

Dated at Rockville, Maryland, this 2nd day of February 2000.
For the Nuclear Regulatory Commission.
John A. Zwolinski,
Director, Division of Licensing Project Management, Office of Nuclear Reactor Regulation.

[FR Doc. 00-3189 Filed 2-10-00; 8:45 am]

BILLING CODE 7590-01-P